DEPARTMENT OF COMMERCE

Foreign-Trade Zones Board

[S-53-2018]

Approval of Subzone Status, AGCO Corporation, Jackson and Round Lake, Minnesota

On April 5, 2018, the Executive Secretary of the Foreign-Trade Zones (FTZ) Board docketed an application submitted by the Greater Metropolitan Area Foreign Trade Zone Commission, grantee of FTZ 119, requesting subzone status subject to the existing activation limit of FTZ 119, on behalf of AGCO Corporation, in Jackson and Round Lake, Minnesota.

The application was processed in accordance with the FTZ Act and Regulations, including notice in the Federal Register inviting public comment (83 FR 15358-15359, April 10, 2018). The FTZ staff examiner reviewed the application and determined that it meets the criteria for approval. Pursuant to the authority delegated to the FTZ Board Executive Secretary (15 CFR 400.36(f)), the application to establish Subzone 119M was approved on May 29, 2018, subject to the FTZ Act and the Board's regulations, including Section 400.13, and further subject to FTZ 119's 2,000-acre activation limit.

Dated: May 29, 2018.
Andrew McGilvray,
Executive Secretary.

[FR Doc. 2018-11818 Filed 5-31-18; 8:45 am]

BILLING CODE 3510-DS-P